DEPARTMENT OF HOMELAND SECURITY

Coast Guard

33 CFR Part 100

[CGD 07-06-107]

RIN 1625-AA08

Special Local Regulations: Suncoast Offshore Grand Prix; Gulf of Mexico, Sarasota, FL

AGENCY: Coast Guard, DHS.

ACTION: Temporary final rule.

SUMMARY: This rule temporarily suspends the permanent special local regulations for the Suncoast Offshore Challenge and the Suncoast Offshore Grand Prix in the Gulf of Mexico near Sarasota, Florida. By existing permanent special local regulations, these two race events have nearly identical course and time characteristics, however one event is held annually on the first Saturday of July and the other event is held annually on the first Sunday of July. This year, the sponsor has decided to combine the events into a single day, reduce the length of the racecourse, and modify the times of the event. Therefore, this rule also adds new temporary special local regulations to account for the changes and provide for the safety of life for the participating vessels, spectators, and mariners on the navigable waters of the United States during the event.

DATES: This rule is effective from 10 a.m. until 5 p.m. on July 2, 2006.

ADDRESSES: Documents indicated in this preamble as being available in the docket are part of docket [CGD 07-06-107] and are available for inspection or copying at Coast Guard Sector St. Petersburg, Prevention Department, 155 Columbia Drive, Tampa, Florida 33606-3598 between 7:30 a.m. and 3:30 p.m., Monday through Friday, except Federal holidays.

FOR FURTHER INFORMATION CONTACT: Lieutenant Junior Grade Jennifer Andrew at Coast Guard Sector St. Petersburg, Prevention Department, (813) 228-2191, Ext. 8307.

SUPPLEMENTARY INFORMATION:

Regulatory Information

We did not publish a notice of proposed rulemaking (NPRM) for this regulation. Under 5 U.S.C. 553(b)(B), the Coast Guard finds that good cause exists for not publishing an NPRM. The exact location and dimensions of the race area were not provided to the Coast Guard with sufficient time to publish an NPRM. Publishing an NPRM and delaying its effective date would be contrary to the public interest since immediate action is needed to minimize potential danger to the public transiting the area.

For the same reasons, under 5 U.S.C. 553(d)(3), the Coast Guard finds that good cause exists for making this rule effective less than 30 days after publication in the Federal Register. The Coast Guard will issue a broadcast notice to mariners and will place Coast Guard or local law enforcement vessels in the vicinity of this area to advise mariners of the restriction.

Background and Purpose

The Annual Suncoast Offshore Challenge and Annual Offshore Grand Prix in the Gulf of Mexico near Sarasota, Florida are governed by permanent regulations at 33 CFR 100.719 and 33 CFR 100.720, respectively, and are normally held on the first Saturday and Sunday of July between 10 a.m. and 4 p.m. Event coordinators have decided to combine the two events to take place on Sunday, July 2, 2006, between 10 a.m. and 5 p.m. Event coordinators are also reducing the length of the racecourse which would allow for Big Sarasota Pass channel to remain open during the event.

Discussion of Rule

This temporary rule is necessary to accommodate the rescheduling of the Annual Suncoast Offshore Challenge onto the date of the Annual Suncoast Offshore Grand Prix race date and to modify the regulated area to account for changes in the length of the racecourse. This rule will temporarily suspend 33 CFR 100.719 and 33 CFR 100.720, and temporarily add a new regulation, 33 CFR 100.T07-107, which is a combination of the suspended regulations. The Coordinates of the regulated area will be modified to reflect a reduced length in the racecourse and the opening of Big Sarasota Pass to vessel traffic, which is blocked under the existing special local regulations. This temporary regulation will be in effect from 10 a.m. until 5 p.m. on July 2, 2006.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. The regulation would be in effect for a limited time and is located in an area where vessel traffic is limited.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule may affect the following entities, some of which may be small entities: The owners and operators of vessels intending to transit near to shore at Lido Key in Sarasota, FL in the vicinity of Big Sarasota Pass and New Pass annually from 10 a.m. to 5 p.m. on the first Sunday in July. This rule would not have a significant economic impact on a substantial number of small entities since it will be in effect for a limited time in an area where vessel traffic is limited.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact the person identified in the FOR FURTHER INFORMATION CONTACT. The Coast Guard will not retaliate against small entities that question or complain about this rule or any policy or action of the Coast Guard.

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h) of the Instruction from further environmental documentation. Special local regulations issued in conjunction with a marine event permit are specifically excluded from further analysis and documentation under those sections.

Under figure 2-1, paragraph (34)(h), of the Instruction, an “Environmental Analysis Check List” is not required for this rule.

List of Subjects in 33 CFR Part 100

Marine safety, Navigation (water), Reporting and recordkeeping requirements, Waterways.

For the reasons discussed in the preamble, the Coast Guard amends 33 CFR part 100 as follows:

PART 100—MARINE EVENTS & REGATTAS

1. The authority citation for part 100 continues to read as follows:

Authority: 33 U.S.C. 1233; Department of Homeland Security Delegation No. 0170.1.

§ 100.719 [Suspended]

2. From 10 a.m. until 5 p.m. on Sunday, July 2, 2006, suspend § 100.719.

§ 100.720 [Suspended]

3. From 10 a.m. until 5 p.m. on Sunday, July 2, 2006, suspend § 100.720.

4. From 10 a.m. until 5 p.m. on Sunday, July 2, 2006, add a new temporary § 100.T07-107 to read as follows:

§ 100.T07-107 Sunc oast Offshore Grand Prix; Gulf of Mexico, Sarasota, FL.

(a) Regulated Area. The regulated area encompasses all waters within the following positions (All coordinates referenced use datum: NAD 83):

27°19′47″ N, 82°35′28″ W

27°19′47″ N, 82°36′23″ W

27°15′39″ N, 82°36′23″ W

27°15′39″ N, 82°32′43″ W

27°17′53″ N, 82°33′59″ W

27°19′47″ N, 82°35′28″ W

(b) Spectator Area. The spectator area is established within the following positions (All coordinates referenced use datum: NAD 83):

27°18′19″ N, 82°36′13″ W

27°16′53″ N, 82°35′58″ W

27°16′56″ N, 82°35′35″ W

27°18′23″ N, 82°35′48″ W

(c) Race Area. The race area is established within the following positions (All coordinates referenced use datum: NAD 83):

27°16′30″ N, 82°35′17″ W

27°16′30″ N, 82°35′02″ W

27°18′17″ N, 82°34′45″ W

27°18′53″ N, 82°35′01″ W

27°18′47″ N, 82°35′39″ W

(d) Special local regulations. (1) The regulated area as defined in paragraph (a) is an idle speed, “no wake” zone.

(2) Vessels may transit but may not loiter within the regulated area as defined in paragraph (a), but may not transit within 1,000 feet of the race area as defined in paragraph (c).

(3) Anchoring for spectators will be permitted within the spectator area only as defined in paragraph (b).

(4) All vessel traffic not involved with the Suncoast Offshore Grand Prix, entering and exiting New Pass between 10 a.m. and 5 p.m. EDT must exit at New Pass Channel day beacon #3 (27°26′28″ N, 82°41′42″ W, LLNR 18100) and #4 (27°26′24″ N, 82°41′41″ W, LLNR 18105), and must proceed in a northerly direction, taking action to avoid a close-quarters situation until finally past and clear of the racecourse. All coordinates referenced use datum: NAD 83.

(5) All vessel traffic not involved with the Suncoast Offshore Grand Prix, entering and exiting Big Sarasota Pass Channel will be allowed to transit only within the marked channel at Big Sarasota Pass Channel, taking action to avoid a close-quarters situation until finally past and clear of the racecourse.

(6) Entry within the race area as defined in paragraph (c) is prohibited for all vessels not officially registered with the sponsor and displaying colored pennants to aid in their identification.

(e) Effective Period. This section will be enforced from 10 a.m. until 5 p.m. EDT, Sunday, July 2, 2006.

Dated: June 20, 2006.
D.W. Kunkel,
RADM, U.S. Coast Guard, Commander, Seventh Coast Guard District.

[FR Doc. E6-10584 Filed 7-6-06; 8:45 am]

BILLING CODE 4910-15-P